DEPARTMENT OF COMMERCE

International Trade Administration

[A-570-137]

Pentafluoroethane (R-125) From the People's Republic of China: Preliminary Results and Rescission, in Part, of Antidumping Duty Administrative Review; 2023-2024

AGENCY: Enforcement and Compliance, International Trade Administration, Department of Commerce.

SUMMARY: The U.S. Department of Commerce (Commerce) preliminarily finds that pentafluoroethane (R-125) from the People's Republic of China (China) was sold in the United States at prices below normal value (NV) during the period of review (POR) March 1, 2023, through February 29, 2024. Additionally, we are rescinding this administrative review, in part, with respect to one company for which there were no reviewable entries of subject merchandise during the POR. We invite interested parties to comment on these preliminary results of review.

DATES: Applicable July 11, 2025.

FOR FURTHER INFORMATION CONTACT: Christopher Maciuba, AD/CVD Operations, Office II, Enforcement and Compliance, International Trade Administration, U.S. Department of Commerce, 1401 Constitution Avenue NW, Washington, DC, 20230; telephone (202) 482-0413.

SUPPLEMENTARY INFORMATION:

Background

On March 3, 2022, Commerce published in the Federal Register the antidumping duty order on R-125 from China.¹ On March 1, 2024, Commerce published a notice of opportunity to request an administrative review of the Order, pursuant to section 751(a)(1) of the Tariff Act of 1930, as amended (the Act).² On May 8, 2024, based on timely requests for review from Shandong Dongyue Chemical Co. Ltd. (Dongyue), Zhejiang Sanmei Chemical Ind. Co. Ltd. (Sanmei), Zhejiang Yonghe Refrigerant Co., Ltd (Yonghe),³ and Honeywell, Inc. (the petitioner), Commerce initiated an administrative review of the Order covering three companies,⁴ including the mandatory respondent, Sanmei. On July 22, 2024, Commerce tolled certain deadlines in this proceeding by seven days.⁵ On December 3, 2024, Commerce extended the deadline for these preliminary results to April 7, 2025.⁶ On December 9, 2024, Commerce tolled the deadline to issue the preliminary results in this administrative review by 90 days.⁷ The deadline for the preliminary results is now July 7, 2025.

¹ See Pentafluoroethane (R-125) form the People's Republic of China: Antidumping and Countervailing Duty Orders, 87 FR 12081 (March 3, 2022) (Order).

² See Antidumping or Countervailing Duty Order, Finding, or Suspended Investigation; Opportunity to Request Administrative Review and Join Annual Inquiry Service List, 89 FR 15157 (March 1, 2024).

³ Commerce has previously determined that Sanmei is a single entity comprised of Sanmei; Jiangsu Sanmei Chemical Ind. Co., Ltd.; and Fujian Qingliu Dongying Chemical Ind. Co., Ltd. Commerce has also previously determined that Yonghe is a single entity comprised of Yonghe; Jinhua Yonghe Fluorine Chemical Co., Ltd.; Inner Mongolia Yonghe Fluorochemical Co., Ltd.; Shaowu Yonghe Jintang new material Co., Ltd.; Inner Mongolia Huasheng Hydrohuone Alid Co., Ltd.; and Jiangxi Shilei Fluorochemical Co., Ltd. See Pentafluoroethane (R-125) from the People's Republic of China: Preliminary Results of Antidumping Duty Administrative Review; 2021-2023, 89 FR 22997 (April 3, 2024), unchanged in Pentafluoroethane (R-125) from the People's Republic of China: Final Results of Antidumping Duty Administrative Review; 2021-2023, 89 FR 66033 (August 14, 2024).

⁴ See Initiation of Antidumping and Countervailing Duty Administrative Reviews, 89 FR 38867 (May 8, 2024) (Initiation Notice).

⁵ See Memorandum, “Tolling of Deadlines for Antidumping and Countervailing Duty Proceedings,” dated July 22, 2024.

⁶ See Memorandum, “Extension of Deadline for Preliminary Results of Antidumping Duty Administrative Review,” dated December 3, 2024.

⁷ See Memorandum, “Tolling of Deadlines for Antidumping and Countervailing Duty Proceedings,” dated December 9, 2024.

For a complete description of the events that followed the initiation of this review, see the Preliminary Decision Memorandum.⁸ A list of topics included in the Preliminary Decision Memorandum is provided as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁸ See Memorandum, “Decision Memorandum for the Preliminary Results of the Antidumping Duty Administrative Review: Pentafluoroethane from the People's Republic of China; 2023-2024,” dated concurrently with, and hereby adopted by, this notice (Preliminary Decision Memorandum).

Scope of the Order

The merchandise subject to the Order is R-125 from China. For a complete description of the scope of the Order, see the Preliminary Decision Memorandum.

Rescission of Review, in Part

Pursuant to 19 CFR 351.213(d)(3), it is Commerce's practice to rescind an administrative review when there are no reviewable entries of subject merchandise during the POR for which liquidation is suspended.⁹ Normally, upon completion of an administrative review, the suspended entries are liquidated at the antidumping duty assessment rate calculated for the review period.¹⁰ Therefore, to conduct an administrative review of a company, there must be a suspended entry that Commerce can instruct U.S. Customs and Border Protection (CBP) to liquidate at the antidumping duty assessment rate calculated for the POR.¹¹

⁹ See, e.g., Large Diameter Welded Pipe from Greece: Rescission of Antidumping Duty Administrative Review; 2022-2023, 89 FR 4274 (January 23, 2024).

¹⁰ See 19 CFR 351.212(b)(1).

¹¹ See 19 CFR 351.213(d)(3).See, e.g., Large Diameter Welded Pipe from Greece: Rescission of Antidumping Duty Administrative Review; 2022-2023, 89 FR 4274 (January 23, 2024).

On March 11, 2025, we notified parties of our intent to rescind this administrative review, in part, with respect to Dongyue because there were no suspended entries of subject merchandise produced or exported by Dongyue during the POR. We invited interested parties to comment.¹² No parties commented on our intent to rescind the review, in part. In the absence of suspended entries of subject merchandise from this company during the POR, we are rescinding, in part, the administrative review for Dongyue, in accordance with 19 CFR 351.213(d)(3).

¹² See Memorandum, “Notice of Intent to Rescind Review, In Part,” dated March 11, 2025.

Separate Rates

In the Initiation Notice, we informed parties that all firms for which a non-market economy review was initiated that wished to qualify for separate rate status must complete, as appropriate, either a separate rate application or a separate rate certification.¹³ Commerce preliminarily determines that Sanmei is eligible to receive a separate rate. Commerce also preliminarily determines that, after failing to submit a separate rate certification, Yonghe is no longer eligible to receive a separate rate and is therefore considered part of the China-wide entity.

¹³ See Initiation Notice, 89 FR 38868-69.

China-Wide Entity

Because Yonghe did not file a separate rate certification in this proceeding, it is ineligible for a separate rate and we are unable to select it for individual examination.¹⁴ Accordingly, Commerce finds that Yonghe has not established eligibility for a separate rate and is considered to be part of the China-wide entity for these preliminary results.

¹⁴ Id.

Under Commerce's policy regarding the conditional review of the China-wide entity, the China-wide entity will not be under review unless a party specifically requests, or Commerce self-initiates, a review of the entity.¹⁵ Because no party requested a review of the China-wide entity in this review, the entity is not under review, and the entity's rate (i.e., 267.51 percent) is not subject to change.¹⁶

¹⁵ See Antidumping Proceedings: Announcement of Change in Department Practice for Respondent Selection in Antidumping Duty Proceedings and Conditional Review of the Nonmarket Economy Entity in NME Antidumping Duty Proceedings, 78 FR 65963 (November 4, 2013).

¹⁶ See Order.

Methodology

Commerce is conducting this review in accordance with section 751(a)(1)(B) of the Act. We calculated export price in accordance with section 772 of the Act. Because China is a non-market economy country within the meaning of section 771(18) of the Act, we calculated NV in accordance with section 773(c) of the Act.

For a full description of the methodology underlying our preliminary results, see the Preliminary Decision Memorandum.

Preliminary Results of Review

Commerce preliminarily determines that the following weighted-average dumping margin exists for the period March 1, 2023, through February 29, 2024:

Exporter/producer | Weighted-average dumping margin (percent)
Zhejiang Sanmei Chemical Ind. Co., Ltd.; Fujian Qingliu Dongying Chemical Co., Ltd.; Jiangsu Sanmei Chemical Ind. Co., Ltd | 60.08

Disclosure

Commerce intends to disclose the calculations performed for these preliminary results to interested parties within five days after public announcement, or if there is no public announcement, within five days of the date of publication of this notice in the Federal Register.¹⁷

¹⁷See 19 CFR 351.224(b)

Public Comment

Case briefs or other written comments may be submitted to the Assistant Secretary for Enforcement and Compliance. Pursuant to 19 CFR 351.309(c)(1)(ii), we have modified the deadline for interested parties to submit case briefs to Commerce to no later than 21 days after the date of the publication of this notice.¹⁸ Rebuttal briefs, limited to issues raised in the case briefs, may be filed not later than five days after the date for filing case briefs.¹⁹ Parties who submit case briefs or rebuttal briefs in this proceeding are encouraged to submit with each argument: (1) a statement of the issue; and (2) a table of authorities.²⁰ All briefs must be filed electronically using ACCESS. An electronically filed document must be received successfully in its entirety in ACCESS by 5:00 p.m. Eastern Time on the established deadline.

¹⁸See 19 CFR 351.309.

¹⁹See 19 CFR 351.309(d); see also Administrative Protective Order, Service, and Other Procedures in Antidumping and Countervailing Duty Proceedings, 88 FR 67069, 67077 (September 29, 2023) (APO and Final Service Rule).

²⁰See 19 CFR 351.309(c)(2) and (d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.²¹ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).²²

²¹We use the term “issue” here to describe an argument that Commerce would normally address in a comment of the Issues and Decision Memorandum.

²²See APO and Service Final Rule.

Pursuant to 19 CFR 351.310(c), interested parties who wish to request a hearing must submit a written request to the Acting Assistant Secretary for Enforcement and Compliance, U.S. Department of Commerce, filed electronically via ACCESS within 30 days after publication of this notice. Requests should contain: (1) the party's name, address, and telephone number; (2) the number of participants; and (3) a list of issues to be discussed. Oral presentations at the hearing will be limited to issues raised in the briefs. If a request for a hearing is made, Commerce intends to hold the hearing at a date and time to be determined.²³

²³See 19 CFR 351.310(d).

Commerce intends to issue the final results of this administrative review, including the results of its analysis raised in any written briefs, not later than 120 days after the publication date of this notice, pursuant to section 751(a)(3)(A) of the Act, unless otherwise extended.

Assessment Rates

In accordance with section 751(a)(2)(C) of the Act, upon issuance of the final results, Commerce will determine, and CBP shall assess, antidumping duties on all appropriate entries covered by this review.²⁴ Commerce intends to issue assessment instructions to CBP no earlier than 35 days after the date of publication of the final results of this review in the Federal Register . If a timely summons is filed at the U.S. Court of International Trade, the assessment instructions will direct CBP not to liquidate relevant entries until the time for parties to file a request for a statutory injunction has expired (i.e., within 90 days of publication).

²⁴See 19 CFR 351.212(b)(1).

For Sanmei, Commerce intends to calculate importer or customer-specific assessment rates, in accordance with 19 CFR 351.212(b)(1).²⁵ Where the respondent reported reliable entered values, Commerce intends to calculate importer or customer-specific ad valorem assessment rates by aggregating the amount of dumping calculated for all U.S. sales to the importer or customer and dividing this amount by the total entered value of the merchandise sold to the importer or customer.²⁶ Where the respondent did not report entered values, Commerce will calculate importer or customer-specific assessment rates by dividing the amount of dumping for reviewed sales to the importer or customer by the total quantity of those sales. Commerce will calculate an estimated ad valorem importer or customer-specific assessment rate to determine whether the per-unit assessment rate is de minimis; however, Commerce will use the per-unit assessment rate where entered values were not reported.²⁷ Where an importer or customer-specific ad valorem assessment rate is not zero or de minimis, Commerce will instruct CBP to collect the appropriate duties at the time of liquidation. Where either the respondent's weighted average dumping margin is zero or de minimis, or an importer or customer-specific ad valorem assessment rate is zero or de minimis, Commerce will instruct CBP to liquidate appropriate entries without regard to antidumping duties.²⁸

²⁵See Antidumping Proceedings: Calculation of the Weighted Average Dumping Margin and Assessment Rate in Certain Antidumping Proceedings: Final Modification,77 FR 8101 (February 14, 2012) (Final Modification).

²⁶See 19 CFR 351.212(b)(1).

²⁷Id.

²⁸See Final Modification, 77 FR at 8103.

For Dongyue, for which this review is being rescinded, Commerce will instruct CBP to assess antidumping duties on all appropriate entries. Antidumping duties shall be assessed at rates equal to the cash deposit rate for estimated antidumping duties required at the time of entry, or withdrawal from warehouse, for consumption, in accordance with 19 CFR 351.212(c)(1)(i). With respect to the recission of this review, in part, Commerce intends to issue assessment instructions to CBP no earlier than 35 days after the date of publication of this notice in the Federal Register.

For the final results, if we continue to treat Yonghe as part of the China-wide entity, we will instruct CBP to apply an ad valorem assessment rate of 267.51 percent to all entries of subject merchandise during the POR which were produced and/or exported by this company. The final results of this review shall be the basis for the assessment of antidumping duties on entries of merchandise covered by the final results of this review and for future deposits of estimated duties, where applicable.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of subject merchandise entered, or withdrawn from warehouse, for consumption on or after the publication date of the final results of this administrative review, as provided by section 751(a)(2)(C) of the Act: (1) the cash deposit rate for the exporters listed above will be that established in the final results of this review, except if the rate is less than 0.50 percent and, therefore, de minimis within the meaning of 19 CFR 351.106(c)(1), in which case the cash deposit rate will be zero; (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter.²⁹ These deposit requirements, when imposed, shall remain in effect until further notice.

²⁹See Order.

Final Results of Review

Unless the deadline is extended, Commerce intends to issue the final results of this administrative review, including the results of its analysis of issues raised by interested parties in the written comments, within 120 days after the date of publication of these preliminary results in the Federal Register.³⁰

³⁰ See section 751(a)(3)(A) of the Act; and 19 CFR 351.213(h).

Notification to Importers

This notice serves as a reminder to importers of their responsibility under 19 CFR 351.402(f) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Notification to Interested Parties

We are issuing and publishing these preliminary results in accordance with sections 751(a)(1) and 777(i)(1) of the Act, and 351.221(b)(4).

Dated: July 7, 2025.
Christopher Abbott,
Deputy Assistant Secretary for Policy and Negotiations, performing the non-exclusive functions and duties of the Assistant Secretary for Enforcement and Compliance.

Appendix

List of Topics Discussed in the Preliminary Decision Memorandum

I. Summary

II. Background

III. Scope of the Order

IV. Rescission of Administrative Review, In Part

V. Discussion of the Methodology

VI. Recommendation

[FR Doc. 2025-12955 Filed 7-10-25; 8:45 am]

BILLING CODE 3510-DS-P